SOCIAL SECURITY ADMINISTRATION

[Docket No. SSA-2018-0065]

Modifications to the Disability Determination Procedures; End of the Single Decisionmaker Test and Extension of the Prototype Test

AGENCY: Social Security Administration.

ACTION: Notice.

SUMMARY: We are announcing the end of the “single decisionmaker” test, consistent with our notice in the Federal Register in 2016, in which we said that we would end the test by December 28, 2018. This notice also extends the separate “prototype” test until its cessation in June 2020.

DATES: This notice is applicable on December 12, 2018.

FOR FURTHER INFORMATION CONTACT: William P. Gibson, Office of Legislation and Congressional Affairs, Social Security Administration, 6401 Security Boulevard, Baltimore, MD 21235-6401, (410) 966-9039, for information about this notice. For information on eligibility or filing for benefits, call our national toll-free number, 1-800-772-1213 or TTY 1-800-325-0778, or visit our internet site, Social Security Online, at http://www.socialsecurity.gov.

SUPPLEMENTARY INFORMATION: Our current rules authorize us to test, individually or in any combination, certain modifications to the disability determination procedures. 20 CFR 404.906 and 416.1406. We conducted several tests under the authority of these rules. In the “single decisionmaker” test, a disability examiner may make the initial disability determination in most cases without obtaining the signature of a medical or psychological consultant. Under section 832 of the Bipartisan Budget Act of 2015 (BBA),¹ we are required to end the single decisionmaker test. On August 25, 2016, we announced that we would conclude use of the single decisionmaker test by December 28, 2018. 81 FR 58544.

¹ Public Law 114-74, 129 Stat. 584, 613.

We ended the single decisionmaker test on October 1, 2018, in the 19 States and the territory of Guam that used this test. There were nine States and the territory of Guam that used single decisionmaker as a stand-alone test. The remaining 10 States used single decisionmaker as part of a separate test that we refer to as the “disability prototype.” 64 FR 47218.

One feature of the prototype test eliminates the reconsideration level of our administrative review process. We are continuing to make decisions in these 10 States by maintaining the elimination of the reconsideration level, but as noted above, as of October 1, 2018, consistent with section 832 of the BBA, we have been making determinations by using medical consultants in those States with the prototype tests.

We will begin phasing out the prototype test in January 2019 in the following five States: New Hampshire; New York; Louisiana; Colorado; and in the part of California ² where the prototype test is currently being conducted. This means that for the residents in these locations who apply for Social Security Disability Insurance Benefits or Supplemental Security Income, or both, and who receive an initial denial determination on or after January 1, 2019, the first step of the appeals process will be to request a reconsideration of that determination. If we deny an individual at the reconsideration step, they may then seek further review of their claim by requesting a hearing before an administrative law judge.

² California only includes the Los Angeles North and Los Angeles West branches.

We will eliminate the prototype test in the remaining five States (Pennsylvania; Alabama; Michigan; Missouri; and Alaska) by June 26, 2020, at which time the test will end. With the end of the prototype test, we will return to a national, unified disability process that affords all disability claimants the same appeal rights in all States.

Nancy A. Berryhill,
Acting Commissioner of Social Security.

[FR Doc. 2018-26803 Filed 12-11-18; 8:45 am]

BILLING CODE 4191-02-P